FEDERAL MARITIME COMMISSION

Agency Information Collection Activities: Submission for OMB Review; Comment Request

AGENCY: Federal Maritime Commission.

ACTION: Final notice of submission for OMB review.

SUMMARY: In accordance with the Paperwork Reduction Act of 1995, the Federal Maritime Commission (Commission) hereby gives notice that it has submitted to the Office of Management and Budget (OMB) a request for a reinstatement of the existing collection of information requirements under Commission rules concerning Licensing, Financial Responsibility Requirements and General Duties for Ocean Transportation Intermediaries.

DATES: Written comments must be submitted on or before October 24, 2019.

ADDRESSES: Comments should be addressed to:

Office of Information and Regulatory Affairs, Office of Management and Budget, Attention: Desk Officer for Federal Maritime Commission, 725 17th Street NW, Washington, DC 20503, OIRA_Submission@OMB.EOP.GOV, Fax: (202) 395-5806

and to:

Karen V. Gregory, Managing Director, Office of the Managing Director, Federal Maritime Commission, 800 North Capitol Street NW, Washington, DC 20573, Telephone: (202) 523-5800, omd@fmc.gov.

Please reference the information collection's title and OMB approved number in your comments.

FOR FURTHER INFORMATION CONTACT: Copies of the submission(s) may be obtained by contacting Donna Lee at 202-523-5800 or email: omd@fmc.gov.

SUPPLEMENTARY INFORMATION: Pursuant to the Paperwork Reduction Act of 1995 (44 U.S.C. 3501 et seq.), the Commission invites the general public and other Federal agencies to comment on the proposed information collection. On May 31, 2019, the Commission published a notice and request for comment in the Federal Register (84 FR 25274) regarding the agency's request to OMB for reinstatement for information collections as required by the Paperwork Reduction Act of 1995. The Commission received no comments on the request for reinstatement of OMB approval. The Commission has submitted the described information collection to OMB for approval.

In response to this notice, comments and suggestions should address one or more of the following points: (1) The necessity and utility of the proposed information collection for the proper performance of the agency's functions; (2) the accuracy of the estimated burden; (3) ways to enhance the quality, utility, and clarity of the information to be collected; and (4) the use of automated collection techniques or other forms of information technology to minimize the information collection burden.

Information Collection Open for Comment

Title: 46 CFR part 515—Licensing, Financial Responsibility Requirements and General Duties for Ocean Transportation Intermediaries.

OMB Approval Number: 3072-0018 (Expired March 31, 2019)

Abstract: The Shipping Act of 1984 (the Act), 46 U.S.C. 40101-41309 (2006), as modified by Public Law 105-258 (The Ocean Shipping Reform Act of 1998) and Section 424 of Public Law 105-383 (The Coast Guard Authorization Act of 1998), provides that no person in the United States may act as an ocean transportation intermediary (OTI) unless that person holds a license issued by the Commission. The Commission shall issue an OTI license to any person that the Commission determines to be qualified by experience and character to act as an OTI. Further, no person may act as an OTI unless that person furnishes a bond, proof of insurance, or other surety in a form and amount determined by the Commission to insure financial responsibility. The Commission has implemented the Act's OTI requirements in regulations contained in 46 CFR part 515, including financial responsibility Forms FMC-48, FMC-67, FMC-68, and FMC-69, Optional Rider Forms FMC-48A and FMC-69A, its related license application Form FMC-18, and the related foreign-based unlicensed NVOCC registration/renewal Form FMC-65.

Type of Request: Reinstatement, with changes of a previously approved collection for which approval has expired.

Proposed Changes: The proposed changes to the collection reflect proposed changes to Part 515 in a recent rulemaking, which include: (a) Removing optional paper license application process and related reference to fee amounts; (b) clarifying language specifying who can be the Qualifying Individual in a partnership between entities other than individuals; (c) updating description of processes regarding renewals, bonds, and terminations; (d) expanding the types of applications subject to direct Commission review to include applicants employing the same officers, managers, or members of an OTI whose license was revoked or denied within the previous three years; (e) clarifying that sureties provide the organization number of OTIs with claim details for registered NVOCCs; (f) adding the submission of Form FMC-1 prior to being licensed; and (g) deleting reference to availability of the Regulated Person's Index (RPI) upon request.

Most of the proposed changes seek to streamline licensing, registration, renewal, and termination processes so that the Commission, licensees and registrants can receive and transmit documents electronically; remove references to paper license application and registration forms on the basis that no requests for waivers of electronic filing requirement were received; and assist carriers in verifying an NVOCC's compliance with OTI licensing, tariff, and financial responsibility requirements by adding the requirement that Form FMC-1 be submitted prior to issuance of an OTI license. Electronic filing of applications, registrations, and financial responsibility documents reduces cost to OTIs and the Commission and facilitates Commission review and issuance of OTI licenses and registrations. The Commission currently issues OTI licenses upon receipt of evidence of financial responsibility. Licensees that are NVOCCs must publish a tariff and notify the Commission using Form FMC-1, prior to commencing NVOCC service. The proposed change to issue an NVOCC OTI license upon receipt of financial responsibility and Form FMC-1 will assist common carriers in determining an NVOCC's compliance with the OTI licensing, tariff, and financial responsibility requirements. Foreign-registered NVOCCs submit a Form FMC-65, Form FMC-1, and evidence of financial responsibility to the Commission prior to commencing NVOCC service. The Commission is clarifying that sureties provide the organization number of OTIs with claim details for registered NVOCCs. The sureties currently provide similar identifying information for licensed OTIs. Data contained in the RPI can be downloaded at no cost from the Commission's website, and therefore the Commission is proposing to delete reference to availability of the RPI upon request.

Purpose: The Commission uses information obtained under this part and through Form FMC-18 to determine the qualifications of OTIs and their compliance with the Act and regulations, and to enable the Commission to discharge its duties under the Act by ensuring that OTIs maintain acceptable evidence of financial responsibility. If the collection of information were not conducted, there would be no basis upon which the Commission could determine if applicants are qualified for licensing. The Commission would also not be able to effectively assess the compliance of foreign-based, unlicensed NVOCCs without the required registration information.

Frequency: This information is collected when applicants apply for a license or submit a registration, complete the triennial renewal, or when existing licensees or registrants change certain information in their application forms.

Type of Respondents: The types of respondents are persons desiring to obtain or maintain a license or registration to act as an OTI. Under the Act, OTIs may be either an ocean freight forwarder, a non-vessel-operating common carrier, or both.

Number of Annual Respondents: The Commission estimates a potential annual respondent universe of 6,475 entities.

Estimated Time per Response: The time per response to complete application Form FMC-18 averages 2 hours and to complete the triennial renewal is 10 minutes. The time to complete a financial responsibility form averages 20 minutes. The time to complete Form FMC-65 to submit or renew a registration as a foreign-based, unlicensed NVOCC averages 10 minutes.

Total Annual Burden: The Commission estimates the total annual burden at 3,918 hours.

Rachel Dickon,
Secretary.

[FR Doc. 2019-20614 Filed 9-23-19; 8:45 am]

BILLING CODE 6731-AA-P